FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16628N.

Name: Air & Sea Pak Co. dba Corrigan Air & Sea Cargo Systems.

Address: 6170 Middlebelt Road, Romulus, MI 48174.

Date Revoked: April 28, 2003.

Reason: Failed to maintain a valid bond.

License Number: 11242N.

Name: Aloyd International Corp.

Address: 149-09 183rd Street, Springfield Gardens, NY 11413.

Date Revoked: March 31, 2003.

Reason: Failed to maintain a valid bond.

License Number: 4085F.

Name: American Logistics & Purchasing Services, Ltd.

Address: 1610 Parkview Avenue, Seaford, NY 11783.

Date Revoked: April 19, 2003.

Reason: Failed to maintain a valid bond.

License Number: 3356F.

Name: Arrow Cargo, Inc.

Address: 3231 S. Gulley Road, Suite D, Dearborn, MI 48124.

Date Revoked: May 7, 2003.

Reason: Failed to maintain a valid bond.

License Number: 1530F.

Name: Colombo Services, Inc.

Address: 4000-A Airline Drive, Suite A, Houston, TX 77022.

Date Revoked: May 7, 2003.

Reason: Failed to maintain a valid bond.

License Number: 16499N.

Name: DSM Freight, Inc.

Address: 280 SW 99th Terrace, Pembroke Pines, FL 33025.

Date Revoked: May 1, 2003.

Reason: Failed to maintain a valid bond.

License Number: 17304F.

Name: Direct Worldwide Logistics, Inc.

Address: 7520 Lawndale Avenue, Houston, TX 77012.

Date Revoked: March 28, 2003.

Reason: Failed to maintain a valid bond.

License Number: 17572N.

Name: Impex of Doral Logistics, Inc.

Address: 7275 NW 87th Avenue, Miami, FL 33166.

Date Revoked: October 16, 2002.

Reason: Failed to maintain a valid bond.

License Number: 17077F.

Name: J. Powers International, Inc.

Address: 2501 South State, Suite 100-B, Little Rock, AR 72206.

Date Revoked: May 14, 2003.

Reason: Failed to maintain a valid bond.

License Number: 16356N.

Name: Jagremar Marine, Inc.

Address: 15490 Vickery Drive, Houston, TX 77032.

Date Revoked: May 1, 2003.

Reason: Failed to maintain a valid bond.

License Number: 13754N.

Name: L.A.S. Incorporated.

Address: 8 Hook Road, Bayonne, NJ 07002.

Date Revoked: May 11, 2003.

Reason: Failed to maintain a valid bond.

License Number: 16353N.

Name: Mittercon International, Inc.

Address: 119 Village Street, Suite A, Slidell, LA 70458.

Date Revoked: May 7, 2003.

Reason: Failed to maintain a valid bond.

License Number: 16529N.

Name: Newmark Shipping Ltd. dba R S Freight Inc. dba R S F Inc.

Address: 4455 Torrance Blvd. Suite 848, Torrance, CA 90503.

Date Revoked: May 1, 2003.

Reason: Failed to maintain a valid bond.

License Number: 4133F.

Name: Overseas Trading & Shipping Co., Inc.

Address: 2654 Pittman Drive, Silver Spring, MD 20910.

Date Revoked: May 1, 2003.

Reason: Failed to maintain a valid bond.

License Number: 4273NF.

Name: Primar International, Inc.

Address: 15402 Vantage Parkway East, Suite 314, Houston, TX 77032.

Date Revoked: May 7, 2003.

Reason: Failed to maintain valid bonds.

License Number: 16731N.

Name: Providence Services, Inc.

Address: 8565 NW 68th Street, Miami, FL 33166.

Date Revoked: April 25, 2003.

Reason: Failed to maintain a valid bond.

License Number: 16829NF.

Name: Rail Van LLC dba Multimodal Transportation Division of Rail Van, Inc. dba Global Logistics Services.

Address: 400 West Wilson Bridge Road, Worthington, OH 43082.

Date Revoked: May 4, 2003.

Reason: Failed to maintain valid bonds.

License Number: 11170N.

Name: Sage Freight Systems Inc. dba Sage Container Lines.

Address: 182-30 150th Road, Suite 108, Jamaica, NY 11413.

Date Revoked: April 26, 2003.

Reason: Failed to maintain a valid bond.

License Number: 18322F.

Name: Shiprotectors International, Inc.

Address: 211 East Ocean Blvd., Suite 245, Long Beach, CA 90802.

Date Revoked: May 14, 2003.

Reason: Surrendered license voluntarily.

License Number: 17583N.

Name: Sino-America Express, Inc.

Address: P.O. Box 1495, 13523 Tobinn Manor Drive, Cypress, TX 77429.

Date Revoked: April 1, 2003.

Reason: Surrendered license voluntarily.

License Number: 17169F.

Name: South West Marine Inc.

Address: 400 C Ansin Blvd., Hallandale, FL 33009.

Date Revoked: March 1, 2002.

Reason: Failed to maintain a valid bond.

License Number: 6098N.

Name: Sunshine Express Line, Inc.

Address: 3250 NW, North River Drive, Miami, FL 33142.

Date Revoked: May 11, 2003.

Reason: Failed to maintain a valid bond.

License Number: 3536NF.

Name: Supertrans International Inc.

Address: 8635 Aviation Blvd., Inglewood, CA 90301.

Date Revoked: March 21, 2003.

Reason: Failed to maintain valid bonds.

License Number: 3478F.

Name: Sextant Overseas Shipping Corp.

Address: P.O. Box 126, Enid Road, Summit, NY 12175.

Date Revoked: April 13, 2003.

Reason: Failed to maintain a valid bond.

License Number: 3443N.

Name: Tradewinds Shipping Corp.

Address: 420 Sackett Point Road, Suite Unit 4B, North Haven, CT 06473-3171.

Date Revoked: April 20, 2003.

Reason: Failed to maintain a valid bond.

License Number: 12740N.

Name: USA International Business Connections Corp.

Address: 14313 Bonelli Street, City of Industry, CA 91746.

Date Revoked: April 27, 2003.

Reason: Failed to maintain a valid bond.

License Number: 17413NF.

Name: Venture Transport, Inc.

Address: 314 N. Post Oak Lane, Houston, TX 77024.

Date Revoked: April 18, 2003.

Reason: Failed to maintain valid bonds.

License Number: 7877N.

Name: X-Press Freight Forwarders, Inc.

Address: Calle A Km 1.5 Lot 12, URB Industrial Ville Park, Savana Abajo, Carolina, Puerto Rico 00984.

Date Revoked: May 14, 2003.

Reason: Failed to maintain a valid bond.

Sandra L. Kusumoto,
Director, Bureau of Consumer Complaints and Licensing.

[FR Doc. 03-13321 Filed 5-28-03; 8:45 am]

BILLING CODE 6730-01-P